SMALL BUSINESS ADMINISTRATION

[Declaration of Disaster #3269; (Amendment #3)]

State of North Dakota

In accordance with a notice from the Federal Emergency Management Agency, dated August 2, 2000, the above-numbered Declaration is hereby amended to include McIntosh County, North Dakota as a disaster area due to damages caused by severe storms, flooding, and ground saturation beginning on April 5, 2000 and continuing through July 21, 2000.

All counties contiguous to the above-named primary county have been previously declared. All other information remains the same, i.e., the deadline for filing applications for physical damage is August 26, 2000 and for economic injury the deadline is March 27, 2001.

(Catalog of Federal Domestic Assistance Program Nos. 59002 and 59008)

Dated: August 3, 2000.
James E. Rivera,
Acting Associate Administrator for Disaster Assistance.

[FR Doc. 00-20476 Filed 8-11-00; 8:45 am]

BILLING CODE 8025-01-U